DEPARTMENT OF AGRICULTURE

Natural Resources Conservation Service

[Docket No. NRCS-2011-0018]

Notice of Proposed Changes to the National Handbook of Conservation Practices for the Natural Resources Conservation Service

AGENCY: Natural Resources Conservation Service (NRCS).

ACTION: Notice of availability of proposed changes in the NRCS National Handbook of Conservation Practices for public review and comment.

SUMMARY: Notice is hereby given of the intention of NRCS to issue a series of revised conservation practice standards in the National Handbook of Conservation Practices. These standards include: Dam or Pond Removal (Code 403), Dry Hydrant (Code 432), Feed Management (Code 592), Fishpond Management (Code 399), Land Clearing (Code 460), Livestock Pipeline (Code 516), Pond Sealing or Lining, Flexible Membrane (Code 521A), Fuel Break (Code 383), Stream Crossing (Code 578), and Subsurface Drain (Code 606).

NRCS State Conservationists who choose to adopt these practices for use within their States will incorporate them into section IV of their respective electronic Field Office Technical Guide. These practices may be used in conservation systems that treat highly erodible land (HEL) or on land determined to be a wetland. Section 343 of the Federal Agriculture Improvement and Reform Act of 1996 requires NRCS to make available for public review and comment all proposed revisions to conservation practice standards used to carry out HEL and wetland provisions of the law.

DATES: Effective Date: This is effective August 23, 2011.

Comment Date: Submit comments on or before September 22, 2011. Final versions of these new or revised conservation practice standards will be adopted after the close of the 30-day period, and after consideration of all comments.

ADDRESSES: Comments should be submitted, identified by Docket Number NRCS-2011-0018, using any of the following methods:

• Federal eRulemaking Portal: http://www.regulations.gov. Follow the instructions for submitting comments.

• E-mail: Public.comments@wdc.usda.gov. Include Docket Number NRCS-2011-0018 or “comment on practice standards” in the subject line of the message.

• Mail: Comment Submissions, Attention: Anetra L. Harbor, Policy Analyst, Resource Economics, Analysis and Policy Division, Department of Agriculture, Natural Resources Conservation Service, George Washington Carver Center, 5601 Sunnyside Ave, Room 1-1112D, Beltsville, Maryland 20705.

All comments received will become a matter of public record and will be posted without change to http://www.regulations.gov, including any personal information provided.

FOR FURTHER INFORMATION CONTACT: Wayne Bogovich, National Agricultural Engineer, Conservation Engineering Division, Department of Agriculture, Natural Resources Conservation Service, 1400 Independence Avenue SW., Room 6136 South Building, Washington, DC 20250.

Electronic copies of these standards can be downloaded or printed from the following Web site: ftp://ftp-fc.sc.egov.usda.gov/NHQ/practice-standards/federal-register/. Requests for paper versions or inquiries may be directed to Wayne Bogovich, National Agricultural Engineer, Conservation Engineering Division, Department of Agriculture, Natural Resources Conservation Service, 1400 Independence Avenue SW., Room 6136 South Building, Washington, DC 20250.

SUPPLEMENTARY INFORMATION: The amount of the proposed changes varies considerably for each of the Conservation Practice Standards addressed in this notice. To fully understand the proposed changes, individuals are encouraged to compare these changes with each standard's current version as shown at: http://www.nrcs.usda.gov/technical/Standards/nhcp.html. To aid in this comparison, following are highlights of the proposed revisions to each standard:

Dam or Pond Removal (Code 403)—This is a new conservation practice standard for the purpose of removing existing dams or ponds.

Dry Hydrant (Code 432)—The Criteria section was clarified, Plans and Specification section added a list of items to include, and references were added.

Feed Management (Code 592)—The units changed from Animal Units (AUs) or Number to only AUs. The Purpose changed to include pathogen, odor, particulate matter, and greenhouse gas mitigation. Additions to Conditions Where Practice Applies, Criteria, Considerations, Operations and Maintenance, and References were made to support the change in Purpose.

Fishpond Management (Code 399)—The Definition was changed. Two issues previously included under “Considerations” have been moved to the “Criteria” section and additional action was added to the “Operation and Maintenance” section.

Fuel Break (Code 383)—Only minor edits are being proposed.

Land Clearing (Code 460)—The purpose was rewritten. Criteria was added for soil quality and water quality.

Livestock Pipeline (Code 516)—The title changed from “Pipeline” to “Livestock Pipeline.” Revised Criteria and removed material specifications; expanded Considerations; revised Plans and Specifications; and revised Operation and Maintenance.

Pond Sealing or Lining, Flexible Membrane (Code 521A)—The material requirements have been revised to conform to industry-wide practice and to the most current versions of accepted generic standards, such as ASTM and other industry standards.

Stream Crossing (Code 578)—Criteria include more details related to passage of aquatic organisms and hydraulic criteria.

Subsurface Drain (Code 606)—Revised Purposes; expanded Conditions Where Practice Applies; revised Criteria; expanded Considerations; added Operation and Maintenance; and added References

Signed this 28th day of July, 2011, in Washington, DC.
Dave White,
Chief, Natural Resources Conservation Service.

[FR Doc. 2011-21467 Filed 8-22-11; 8:45 am]

BILLING CODE 3410-16-P